DEPARTMENT OF ENERGY

Federal Energy Regulatory Commission

[Docket No. ER01-642-000]

Cottonwood Energy Company LP; Notice of Filing

December 15, 2000.

Take notice that on December 11, 2000, Cottonwood Energy Company LP (Cottonwood) tendered for filing an application for waivers and blanket approvals under various regulations of the Commission and for an order accepting Cottonwood's Electric Rate Schedule FERC No. 1 to be effective on February 9, 2001.

Cottonwood intends to engage in electric power and energy transactions as a marketer and a broker. In transactions where Cottonwood sells electric energy, it proposes to make such sales on rates, terms and conditions to be mutually agreed to with the purchasing party. Cottonwood's proposed Rate Schedule also permits it to reassign transmission capacity.

Any person desiring to be heard or to protest such filing should file a motion to intervene or protest with the Federal Energy Regulatory Commission, 88 First Street, NE., Washington, DC 20426, in accordance with Rules 211 and 214 of the Commission's Rules of Practice and Procedure (18 CFR 385.211 and 385.214). All such motions and protests should be filed on or before January 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(ii) and the instructions on the Commission's web site at ­http://www.ferc.fed.us/efi/doorbell.htm.

David P. Boergers,
Secretary.

[FR Doc. 00-32536 Filed 12-20-00; 8:45 am]

BILLING CODE 6717-01-M